DEPARTMENT OF DEFENSE

Department of the Navy

Notice of Intent To Grant Exclusive Patent License; Drug Risk Solutions, LLC

AGENCY: Department of the Navy, DOD.

ACTION: Notice.

SUMMARY: The Department of the Navy hereby gives notice of its intent to grant to Drug Risk Solutions, LLC, a revocable, nonassignable, exclusive license to practice in the field of laboratory and “on site” analysis of human hair, other keratinized structures, blood, urine and saliva for drugs of abuse in the United States and certain foreign countries, the Government-owned inventions described in U.S. Patent No. 5,183,740: Flow Immunosensor Method and Apparatus, Navy Case No. 71,694.//U.S. Patent No. 5,354,654: Lyophilized Ligand-Receptor Complexes for Assays and Sensors, Navy Case No. 75,239.//U.S. Patent No. 6,020,209: Microcapillary-Based Flow-Through Immunosensor and Displacement Immunoassay Using the Same, Navy Case No. 78,211.//U.S. Patent No. 6,245,296: Flow Immunosensor Apparatus, Navy Case No. 74,399.//U.S. Patent No. 6,323,042: Microcapillary-Based Flow-Through Immunosensor and Displacement Immunoassay Using the Same, Navy Case No. 80,164.//U.S. Patent No. 6,750,031: Displacement Assay on a Porous Membrane, Navy Case No. 77,298.//U.S. Patent No. 6,808,937: Displacement Assay on a Porous Membrane, Navy Case No. 83,243 and any continuations, divisionals or re-issues thereof.

DATES: Anyone wishing to object to the grant of this license must file written objections along with supporting evidence, if any, not later than October 4, 2005.

ADDRESSES: Written objections are to be filed with the Naval Research Laboratory, Code 1004, 4555 Overlook Avenue, SW., Washington, DC 20375-5320.

FOR FURTHER INFORMATION CONTACT: Ms. Jane Kuhl, Head, Technology Transfer Office, NRL Code 1004, 4555 Overlook Avenue, SW., Washington, DC 20375-5320, tel 202-767-3083. Due to U.S. Postal delays, please fax 202-404-7920, E-Mail: kuhl@utopia.nrl.navy.mil or use courier delivery to expedite response.

(Authority: 35 U.S.C. 207, 37 CFR part 404.)

Dated: September 13, 2005.
I. C. Le Moyne Jr.,
Lieutenant, Judge Advocate General's Corps, U.S. Navy, Alternate Federal Register Liaison Officer.

[FR Doc. 05-18535 Filed 9-16-05; 8:45 am]

BILLING CODE 3810-FF-P